DEPARTMENT OF ENERGY

Federal Energy Regulatory Commission

Combined Notice of Filings #2

Take notice that the Commission received the following electric corporate filings:

Docket Numbers: EC13-121-000.

Applicants: Edison International.

Description: Application for Authorization of Transaction under Section 203 of the Federal Power Act and Request for Expedited Action of Edison International.

Filed Date: 6/25/13.

Accession Number: 20130625-5062.

Comments Due: 5 p.m. ET 7/16/13.

Take notice that the Commission received the following electric rate filings:

Docket Numbers: ER13-1347-001.

Applicants: MeadWestvaco Coated Board, LLC.

Description: Supplement to May 30, 2013 MeadWestvaco Coated Board, LLC tariff filing.

Filed Date: 6/19/13.

Accession Number: 20130619-5118.

Comments Due: 5 p.m. ET 7/10/13.

Docket Numbers: ER13-1761-000.

Applicants: Alabama Power Company.

Description: Southern Power (Dahlberg Units 11-14) LGIA Filing to be effective 6/10/2013.

Filed Date: 6/25/13.

Accession Number: 20130625-5001.

Comments Due: 5 p.m. ET 7/16/13.

Docket Numbers: ER13-1762-000.

Applicants: Alabama Power Company.

Description: Southern Power (Edward L. Addison Unit 5) LGIA Filing to be effective 6/10/2013.

Filed Date: 6/25/13.

Accession Number: 20130625-5002.

Comments Due: 5 p.m. ET 7/16/13.

Docket Numbers: ER13-1763-000.

Applicants: Alabama Power Company.

Description: Southern Power (Franklin Unit 4) LGIA Filing to be effective 6/10/2013.

Filed Date: 6/25/13.

Accession Number: 20130625-5003.

Comments Due: 5 p.m. ET 7/16/13.

Docket Numbers: ER13-1765-000.

Applicants: Southwest Power Pool, Inc.

Description: 1977R2 Nemaha-Marshall Electric Cooperative NITSA and NOA to be effective 6/1/2013.

Filed Date: 6/25/13.

Accession Number: 20130625-5020.

Comments Due: 5 p.m. ET 7/16/13.

Docket Numbers: ER13-1766-000.

Applicants: NorthWestern Corporation.

Description: Revised Rate Schedule 188—Colstrip 1 & 2 Transmission Agreement to be effective 9/1/2013.

Filed Date: 6/25/13.

Accession Number: 20130625-5021.

Comments Due: 5 p.m. ET 7/16/13.

Docket Numbers: ER13-1767-000.

Applicants: AEP Texas Central Company.

Description: TCC-Midway Farms Wind IA Amend No. 1 to be effective 5/30/2013.

Filed Date: 6/25/13.

Accession Number: 20130625-5034.

Comments Due: 5 p.m. ET 7/16/13.

Docket Numbers: ER13-1768-000.

Applicants: Southwest Power Pool, Inc.

Description: Integrated Marketplace—Attachment AN—SPP BA Agreement to be effective 3/1/2014.

Filed Date: 6/25/13.

Accession Number: 20130625-5072.

Comments Due: 5 p.m. ET 7/16/13.

Docket Numbers: ER13-1769-000.

Applicants: Southwest Power Pool, Inc.

Description: Revisions to SPP Bylaws and Membership Agreement—SPP BA Agreement to be effective 3/1/2014.

Filed Date: 6/25/13.

Accession Number: 20130625-5073.

Comments Due: 5 p.m. ET 7/16/13.

Docket Numbers: ER13-1770-000.

Applicants: Wisconsin Electric Power Company.

Description: Wisconsin Electric and NE.W. FERC Rate Schedule No. 131 to be effective 9/1/2013.

Filed Date: 6/25/13.

Accession Number: 20130625-5090.

Comments Due: 5 p.m. ET 7/16/13.

Docket Numbers: ER13-1771-000.

Applicants: Duke Energy Progress, Inc.

Description: Notice of Cancellation of Rate Schedule No. 124 of Duke Energy Progress, Inc.

Filed Date: 6/25/13.

Accession Number: 20130625-5096.

Comments Due: 5 p.m. ET 7/16/13.

Take notice that the Commission received the following electric securities filings:

Docket Numbers: ES13-33-000.

Applicants: The Connecticut Light and Power Company.

Description: Application of Connecticut Light and Power Company and Western Massachusetts Electric Company To Issue Short-Term Debt Securities.

Filed Date: 6/25/13.

Accession Number: 20130625-5085.

Comments Due: 5 p.m. ET 7/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2013.
Nathaniel J. Davis, Sr.,
Deputy Secretary.

[FR Doc. 2013-16066 Filed 7-3-13; 8:45 am]

BILLING CODE 6717-01-P